DEPARTMENT OF HOMELAND SECURITY

[Docket No. DHS-2010-0012]

National Protection and Programs Directorate; Critical Infrastructure Partnership Advisory Council (CIPAC)

AGENCY: National Protection and Programs Directorate, DHS.

ACTION: Update of CIPAC council membership.

SUMMARY: The Department of Homeland Security (DHS) announced the establishment of the Critical Infrastructure Partnership Advisory Council (CIPAC) by notice published in the Federal Register (71 FR 14930-14933) dated March 24, 2006. That notice identified the purpose of CIPAC as well as its membership. This notice provides (i) the quarterly CIPAC membership update, (ii) instructions on how the public can obtain the CIPAC membership roster and other information on the Council, and (iii) information on recently completed CIPAC meetings.

FOR FURTHER INFORMATION CONTACT: Nancy Wong, Director Partnership Programs and Information Sharing Office, Partnership and Outreach Division, Office of Infrastructure Protection, National Protection and Programs Directorate, Department of Homeland Security, Washington, DC 20528, by telephone (703) 235-3999 or e-mail at CIPAC@dhs.gov.

Responsible DHS Official: Nancy J. Wong, Director Partnership Programs and Information Sharing Office, Partnership and Outreach Division, Office of Infrastructure Protection, National Protection and Programs Directorate, Department of Homeland Security, Washington, DC 20528, by telephone (703) 235-3999 or e-mail at CIPAC@dhs.gov.

SUPPLEMENTARY INFORMATION: Purpose and Activity: CIPAC facilitates interaction between government officials and representatives of the community of owners and/or operators for each of the critical infrastructure and key resources (CIKR) sectors defined by Homeland Security Presidential Directive 7 (HSPD-7) and identified in the National Infrastructure Protection Plan (NIPP). The scope of activities covered by CIPAC includes planning; coordinating among government and CIKR owner/operator security partners; implementing security program initiatives; conducting operational activities related to critical infrastructure protection security measures, incident response, recovery, infrastructure resilience, reconstituting CIKR assets and systems for both man-made as well as naturally occurring events; and sharing threat, vulnerability, risk mitigation, and infrastructure continuity information and best practices.

Organizational Structure: CIPAC members are organized into 18 CIKR sectors. Within all of the sectors containing private sector CIKR owners/operators, there generally exists a Sector Coordinating Council (SCC) that includes CIKR owners and/or operators or their representative trade associations. Each of the sectors also has a Government Coordinating Council (GCC) whose membership includes a lead Federal agency that is defined as the Sector Specific Agency (SSA), and all relevant Federal, State, local, tribal, and/or territorial government agencies (or their representative bodies) whose mission interests also involve the scope of the CIPAC activities for that particular sector.

CIPAC Membership: CIPAC Membership includes (i) CIKR owner and/or operator members of an SCC; CIKR owners and operators own and invest in infrastructure assets or in the systems and processes to secure them. CIKR owners and/or operators are held responsible by the public for CIKR operations and the response and recovery when their CIKR assets and systems are disrupted; (ii) trade association members who are members of a SCC representing the interests of CIKR owners and/or operators; (iii) each sector's Government Coordinating Council (GCC) members; and, (iv) State, local, tribal, and territorial governmental officials comprising the DHS State, Local, Tribal, Territorial GCC.

CIPAC Membership Roster and Council Information: The current roster of CIPAC membership is published on the CIPAC Web site (http://www.dhs.gov/cipac) and is updated as the CIPAC membership changes. Members of the public may visit the CIPAC Web site at any time to obtain current CIPAC membership as well as the current and historic list of CIPAC meetings and agendas.

Signed: February 22, 2010.
Nancy Wong,
Designated Federal Officer for the CIPAC.

[FR Doc. 2010-4344 Filed 3-2-10; 8:45 am]

BILLING CODE 9110-9P-P